DEPARTMENT OF TRANSPORTATION

Federal Railroad Administration

Petitions for Waivers of Compliance

In accordance with title 49 Code of Federal Regulations (CFR) section 211.41 and 49 U.S.C. 20103, this notice is hereby given that the Federal Railroad Administration (FRA) has received a request for a waiver of compliance from certain requirements of its safety regulations. The individual petition is described below, including the party seeking relief, the regulatory provisions involved, the nature of the relief being sought, and the petitioner's argument in favor of relief.

Eastern Maine Railway; FRA Waiver Petition No. FRA-2003-15011

Eastern Maine Railway (EMRY), located in St. John, New Brunswick, Canada, seeks a permanent waiver of compliance from 49 CFR 241.7(c), United States Locational Requirements for Dispatching of United States Rail Operations, to allow the continuation of Canadian dispatching of that part of Mattawamkeag Subdivision located in the United States extending between Vanceboro, Maine, and Brownville Junction, Maine, approximately 99 miles, as defined in Appendix A to Part 241. This request was submitted in accordance with § 241.7(c)(3), which permits waiver of the requirements found in Part 241 that all dispatching of U.S. rail operations be conducted in the U.S. This territory was previously grandfathered in the exceptions to extraterritorial dispatching contained in FRA's Interim Final Rule (see 66 FR 63942, December 11, 2001).

In this regard, the track segment identified in the Interim Final Rule remains the same as identified above. This segment consists of a single main track dispatched from a single desk at the EMRY's Rail Traffic Control office in St. John, New Brunswick, Canada, under Canadian Rail Operating Rules (CROR), and the EMRY's Timetable and Special Instructions. The trackage is non-signaled and operated under Occupancy Control System rules. All dispatching is conducted in English. All units of measure are the same as those used in the U.S. EMRY operates approximately 2 trains a day over this segment. The train dispatchers who perform the dispatching function for the EMRY are employed by the New Brunswick Southern Railway (NBSR) and are therefore covered under the NBSR's company drug and alcohol policies and their dispatching office is under 24-hour security. The Department of Transportation of the Province of New Brunswick, Canada, is the regulatory authority which exercises safety jurisdiction over the New Brunswick Southern Railway, which provides dispatching services for the EMRY.

Based on the foregoing, EMRY seeks a permanent waiver of compliance from 49 CFR 241.7(c), United States Locational Requirements for Dispatching of United States Rail Operations, to allow the continuation of Canadian dispatching on that part of the Mattawamkeag Subdivision located in the United States, as described above.

Interested parties are invited to participate in this proceeding by submitting written views, data, or comments. FRA does not anticipate scheduling a public hearing in connection with the request for a waiver of certain regulatory provisions. If any interested party desires an opportunity for oral comment, he or she should notify FRA, in writing, before the end of the comment period and specify the basis for his or her request. All communications concerning these proceedings should identify the appropriate docket number (Docket Number FRA 2003-15011) and must be submitted to the DOT Docket Management Facility, Room PL-401 (Plaza level) 400 Seventh Street, SW., Washington, DC 20590. All documents in the public docket, including EMRY's detailed waiver request, are also available for inspection and copying on the Internet at the docket facility's Web site at http://dms.dot.gov. Communications received within 30 days of the date of this notice will be considered by FRA before final action is taken. Comments received after that date will be considered as far as practicable. All written communications concerning this proceeding are available for examination during regular business hours (9 a.m.-5 p.m.) at the above facility.

FRA wishes to inform all potential commenters that anyone is able to search the electronic form of all comments received into any of our dockets by the name of the individual submitting the comment (or signing the comment, if submitted on behalf of an association, business, labor union, etc.). You may review DOT's complete Privacy Act Statement in the Federal Register published on April 11, 2000 (Volume 65, Number 70; Pages 19477-78) or you may visit http://dms.dot.gov.

Issued in Washington, DC on June 11, 2003.
Grady C. Cothen, Jr.,
Deputy Associate Administrator for Safety Standards and Program Development.

[FR Doc. 03-15395 Filed 6-17-03; 8:45 am]

BILLING CODE 4910-06-P